DEPARTMENT OF AGRICULTURE

Federal Crop Insurance Corporation

Community Outreach and Assistance to Women, Limited Resource and Other Traditionally Under Served Farmers and Ranchers Program

AGENCY: Federal Crop Insurance Corporation, Risk Management Agency (RMA), USDA.

ACTION: Notice of Funds Availability (NOFA) and request for Applications (RFA) for outreach and assistance to women, limited resource, socially disadvantaged and other traditionally under served farmers and ranchers and request for comments.

SUMMARY: In accordance with section 506(l) of the Federal Crop Insurance Act (Act) (7 U.S.C. 1506(l)) and section 192 of the Federal Agriculture Improvement and Reform Act of 1996 (Pub. L. 104-127), the Federal Crop Insurance Corporation (FCIC) announces the availability of approximately $1 million in fiscal year (FY) 2002 for cooperative agreements that will be used to provide outreach and assistance to under-served agricultural producers such as women, limited resource, socially disadvantaged and other traditionally under-served farmers and ranchers (under-served agricultural producers). Funding will be provided to qualified community based organizations, educational institutions, other non profit organizations and other entities to identify and implement unique and innovative outreach projects for providing these under-served agricultural producers with the knowledge, skills, and tools necessary to make informed risk management decisions for their operations in areas including, but not limited to crop insurance and other risk management tools, marketing strategies, managing human resources, legal and labor.

Closing Dates: The deadline for submission of all Applications for the fiscal year (FY 2002) grant cycle is 5 p.m. EDT on July 19, 2002.

Applications received after the deadline will not be considered for funding.

FOR FURTHER INFORMATION CONTACT: Applicants and other interested parties are encouraged to contact: Marie Buchanan, National Outreach Program Manager, Telephone (202) 690-2686, Email: Marie.Buchanan@usda.gov. David Wiggins, Raleigh Regional Office, Telephone (919) 875-4880, or Alesia Swan, Davis Regional Office, Telephone (530) 792-5875. You may also obtain additional information regarding this announcement from the RMA web site at www.rma.usda.gov.

Paperwork Reduction Act of 1995

In accordance with section 3507 (j) of the Paperwork Reduction Act of 1995 (44 U.S.C. 3501), the information collection or recordkeeping requirements included in the notice have been submitted for approval to the Office of Management and Budget (OMB). Please send your written comments to Clearance Officer, OCIO, USDA, room 404-W, 14th Street and Independence Avenue S.W., Washington, DC. 20250. A comment to OMB is best assured of having its full effect if OMB receives it within 30 days of publication of this proposed rule.

We are soliciting comments from the public comment concerning our proposed information collection and recordkeeping requirements. We need this outside input to help us:

(1) Evaluate whether the proposed collection of information is necessary for the proper performance of the functions of the agency, including whether the information has practical utility;

(2) Evaluate the accuracy of our estimate of the burden of the proposed collection of information, including the validity of the methodology and assumptions used;

(3) Enhance the quality, utility, and clarity of the information to be collected; and

(4) Minimize the burden of the collection of information on those who are to respond (such as through the use of appropriate automated, electronic, mechanical, or other technological collection techniques or other forms of information technology, e.g. permitting electronic submission responses).

Title: Community Outreach and Assistance to Women, Limited Resource and Other Traditionally under Served Farmers and Ranchers.

Abstract: Pursuant to Section 506(l) of the Federal Crop Insurance Act (Ac) (7 U.S.C. 1506(l)) and section 192 of the Federal Agriculture Improvement and Reform Act of 1996 (Pub. L. 104-127), the Federal Crop Insurance Corporation (FCIC) announces the availability of approximately $1 million in fiscal year (FY) 2002 for cooperative agreements that will be used to provide outreach and assistance to under-served agricultural producers such as women, limited resource, socially disadvantaged and other traditionally under served farmers and ranchers (under-served agricultural producers). Funding will be provided to qualified community based organizations, educational institutions, non profit and cooperative organizations, and other non profit entities to identify and implement unique and innovative outreach projects for providing under-served agricultural producers with the knowledge, skills and tools necessary to make informed risk management decisions for their operations in areas including, but not limited to crop insurance and other risk management tools, marketing strategies, managing human resources, legal and labor. To apply for funding, RMA is requesting interested applicants to submit Applications, which will include, a 1-page Summary of Proposed Project, a Project Narrative and OMB grant forms.

Purpose: The requested information will be used to review and evaluate applications for outreach and assistance to under served agricultural producers, based on the criteria identified in the Notice.

Estimate of burden: The public reporting burden for this collection of information is estimated to average: 6 hours per response for new applications and 4 hours for renewal applications. This is a one-time collection of this information.

Respondents/Affected Entities: educational institutions, community based and cooperative organizations, and non-profit organizations.

Estimated annual number of respondents: 25 applicants (15 new and 10 Renewal).

Estimated annual number of responses per respondent: 1 response per respondent.

Estimated annual number of responses: 25 total annual responses.

Estimated total annual burden on respondents: 6 hours (new) and 4 hours (Renewal).

Recordkeeping Requirements: 3 yrs.

All responses to this notice will be summarized and included in the request for OMB approval. All comments will also become a matter of public record.

Copies of this information collection can be obtained from: Clearance Officer, OCIO, USDA, room 404-W, 14th Street and Independence Avenue S.W., Washington, DC. 20250.

SUPPLEMENTARY INFORMATION:

Authority

Section 506(l) of the Federal Crop Insurance Act (Act) (7 U.S.C. 1506(l)) and section 192 of the Federal Agriculture Improvement and Reform Act of 1996 (Public Law 104-127).

Eligibility Criteria

Applicants are encouraged to form partnerships with other entities that complement, enhance and/or increase the effectiveness and efficiency of the proposed project. Proposals may be submitted by: 1890 Land Grant Colleges and Universities, Indian tribal community colleges and Alaska native cooperative colleges, Hispanic serving post-secondary educational institutions, and other post-secondary educational institutions with demonstrated experience in serving women, limited resource, socially disadvantaged, and other traditionally under served farmers and ranchers, and Community-based and cooperative organizations with demonstrated experience in providing assistance and other agriculturally related services, which can provide documentary evidence of its past experience in working with under-served agricultural producers.

Program Application Materials

This Application Kit is available at the RMA web site at http://www.rma.usda.gov. If you do not have access to the web page or have trouble downloading material and would like a hardcopy, you may contact: Marie Buchanan, Risk Management Agency, Washington, DC (202) 690-2686, David Wiggins, Risk Management Agency, Raleigh Regional Office Telephone: (919)875-4880 or Alesia Swan, Davis Regional Office Telephone: (530) 792-5875.

Purpose of Program

Proposals are requested for outreach projects to provide information and assistance to under-served agricultural producers.

The purpose of RMA's Community Outreach Cooperative Agreement Program is to fund unique and innovative projects that contribute to:

a. Improving the economic viability of under-served agricultural producers;

b. Educating under-served agricultural producers on the availability and use of crop insurance products and other risk management tools to manage production, marketing human resources, labor and legal risks associated with farming;

c. Improving the delivery of insurance products and other risk management tools and services to under-served agricultural producers;

d. Increasing the use of crop insurance and other risk management tools;

e. Identifying and addressing barriers encountered by the target audience; and

f. Providing program information and technical assistance on the availability and use of risk management tools.

Funding Availability

The amount of funds available in FY 2002 for support of cooperative agreement awards under this program is approximately $1,000,000. There is no commitment by USDA/RMA to fund any particular project or to make a specific number of awards. Applicants awarded a cooperative agreement for an amount that is less than the amount requested will be required to modify their application to conform to the reduced amount before execution of the grant. This program is listed in the Catalog of Federal Domestic Assistance (CFDA) under Number 10.450.

Funding Instrument

The funding instrument will be a cooperative agreement. The terms of the agreement can vary from 12 to 18 months. No maximum or minimum funding levels has been established for individual projects.

Funding Restrictions

Cooperative agreement funds may not be used to:

1. Plan, repair, rehabilitate, acquire, or construct a building or facility including a processing facility;

2. To purchase, rent, or install fixed equipment;

3. Repair or maintain privately owned vehicles;

4. Pay for the preparation of the grant application;

5. Fund political activities;

6. Pay costs incurred prior to receiving this grant;

7. Fund any activities prohibited in 7 CFR Parts 3015 and 3019, as applicable.

Section 708 of the Agriculture, Rural Development, Food and Drug Administration, and Related Agencies Appropriations Act, 2001, Public Law 106-387, limits indirect costs under cooperative agreements between USDA and non-profit institutions, including institutions of higher education, to ten percent of the total direct costs of the agreement. Section 708 authorizes an exception to the ten percent limit for institutions that compute indirect cost rates on a similar basis for all agencies for which the Act makes appropriations. If requested, indirect costs must be justified and may not exceed the ten percent limitation or the current rate negotiated with the cognizant Federal negotiating agency. Applications from colleges and universities must provide a statement in the budget narrative verifying that the indirect costs requested are in accordance with institutional policies.

Substantial Federal Involvement

The Federal awarding agency must be substantially involved in the project to enter into a cooperative agreement to provide assistance. Therefore, applications should include the work to be done by RMA to fulfill this requirement.

Matching Requirements

There is no requirement for grant recipients to provide matching funds under this program.

Applications Considered for Funding

Applicants must specify whether their application is a new, renewal, or resubmitted application, and provide the required information in accordance with the following:

New Applications

This is a project application that has not been preciously submitted to the RMA Outreach Program. All new applications will be reviewed competitively using the selection process and evaluation criteria described in this NOFA.

Renewal Applications

This is a project proposal that requests additional funding for a project beyond the period that was approved in an original or amended award. Applications for renewed funding must contain the same information as required for new applications, and additionally must contain a Progress Report. Renewal applications must be received by the relevant due dates, will be evaluated in competition with other pending applications, and will be reviewed according to the same evaluation criteria as new applications.

Resubmitted Applications

This is a proposal that was previously submitted to the RMA outreach office, but was not funded. Resubmitted proposals must be reviewed by the relevant due dates, will be evaluated in competition with other pending applications, and will be reviewed according to the same evaluation criteria as new applications.

Proposals Format and Content

Use the following guidelines to prepare and submit an application package. Each proposal must contain the following elements in the order indicated. Proper preparation of applications will assist reviewers in evaluating the merits of each application in a systematic, consistent fashion.

a. Prepare the application on one side of the page using standard size (8½” x 11”) white paper, one-inch margins, typed or word processed using no type smaller than 12 point font, and single or double spaced. Use an easily readable font face. (e.g. Times New Roman or Courier).

b. Number each page of the application sequentially, starting with the Project Narrative, including the budget pages, required forms, and any appendices.

c. Staple the application in the upper left-hand corner. Do not bind. An original and 4 copies (5 total) must be submitted in one package, along with five additional copies of the “Project Summary” as a separate attachment.

d. Include original illustrations (photographs, color prints, etc.) in all copies of the application to prevent loss of meaning through poor quality reproduction.

1. Proposal Cover Page

Each copy of the application must contain a “Proposal Cover Page,” which provides the title of the proposal, and the name, address, telephone and fax numbers of applicant and proposing project director. The original must contain the pen-and-ink signatures of the proposing project director and the authorized organizational representative (AOR), who is the individual who possesses the necessary authority to commit the organization's time and other relevant resources to the project.

2. Table of Contents

For consistency and ease in locating information, each application must contain a detailed Table of Contents immediately following the proposal cover page. The Table of Contents should contain page numbers for each section of the application. Page numbering should begin with the first page of the Project Narrative.

3. Project Summary

The application must contain a concise project summary. The summary should not exceed 2 pages in length. The summary should be a self-contained, specific description of the activity to be undertaken and should focus on overall project goals and supporting objectives; plans to accomplish the project goals; and relevance of the project to the goals of RMA's outreach program.

4. Project Narrative

The Narrative should not exceed 15 pages of written text and up to five additional pages for figures and tables, and should contain the following components:

a. Introduction: A clear statement of the goals, supporting objectives, and proposed outcomes of the project.

b. Background and Existing Situation: Provide a detailed description of the circumstances giving rise to the need for the proposed activity to outreach and assist under-served agricultural producers.

c. Objectives: The objectives should be clear, complete and logically arranged. The statements should detail the major steps necessary to develop the plan with specific milestones and planned accomplishments. The objectives should contain details of how the accomplishments will advance the goal of providing under-served agricultural producers with the knowledge, skills and tools necessary to make informed risk management decisions for their operations regarding to achieve economic viability.

d. Procedures: Describe the steps necessary to implement the proposed one-year plan including the methods or plan of action to attain the stated objectives.

e. Evaluation: Describe the evaluation plan for the proposed activity, including impact factors and indicators of effectiveness and efficiency in accomplishing objectives.

5. Scope of Program

All proposals must contain explicit information indicating how results from the project will be measured, evaluated, and reported. The indicators used to measure results of the project should be clear and objective and focus on the anticipated impacts on under-served agricultural producers.

6. Program Delivery

Proposals should identify unique and innovative initiatives and will include the use of strong organizational skills to reach under-served agricultural producers. Proposals should show how public or private sector (or both) delivery points would be used to reach under-served agricultural producers.

7. Collaborative Arrangements

If the nature of the proposed project requires collaboration or sub-contractual arrangements with other entities, the applicant must identify the collaborator or sub-contractor and provide a full explanation of the nature of the relationship.

The proposal must also contain in detail the collaborative duties and responsibilities of RMA in the development and delivery of the proposed project.

8. Budget

A budget and a detailed narrative in support of the budget are required for the overall project period. Show all funding sources and itemized costs for the line items contained on the budget form (SF-424A). Funds may be requested under any of the line items listed, provided that the item or service for which support is requested is identified as necessary for successful conduct of the proposed project, is allowable under the authorizing legislation and the applicable Federal cost principles, and is not prohibited under any applicable Federal statute. Salaries of project personnel who will be working on the project should be requested in proportion to the effort that they will devote to the project.

9. Personnel

Summarize the relevant experience of key project personnel that will enable them to successfully complete the project. Include a brief curriculum vitae, which provides enough information for proposal reviewers to make an informed judgment regarding capabilities and experience.

10. Current and Pending Support

All proposals must list any other current public or private support to which key personnel identified in the proposal have committed portions of their time, whether or not salary support for such persons involved is included in the budget. Analogous information must be provided for any pending proposals that are being considered by, or that will be submitted in the near future to, other USDA programs or agencies. Concurrent submission of identical or similar proposals to other possible sponsors will not prejudice proposal review or evaluation for this program.

Submission of Proposal

1. When and Where to Submit

Full proposals must be received by close of business July 19, 2002. Proposals sent by First Class mail must be sent to the following address: U.S. Department of Agriculture, Risk Management Agency, Civil Rights and Community Outreach AG. Stop 0801, 1400 Independence Avenue, SW., Washington, DC 20250.

Hand-delivered proposals and those delivered by overnight express mail or courier service should be brought to the following address: U.S. Department of Agriculture, Risk Management Agency, Civil Rights and Community Outreach, Room 3053, 1400 Independence Ave, SW, Washington, DC 20250.

2. Acknowledgment of Proposals

The receipt of all proposals will be acknowledged in writing and will contain an identifying proposal number. Once a proposal has been assigned an identification number, the number should be referred to in future correspondence. If the applicant does not receive an acknowledgment within 60 days of the submission deadline, please contact the program contact. Once the application has been assigned an application number, please cite that number on all future correspondence.

Methods for Evaluating and Ranking Applications

Proposals that meet the deadlines and are in conformance with all administrative requirements outlined in this NOFA will be evaluated by a panel of technical experts appointed by RMA. Applications will be evaluated competitively and points awarded as specified in the Evaluation Criteria and Weights section. After assigning points upon those criteria, applications will be listed in initial rank order and presented, along with funding level recommendations, to the Administrator of RMA, who will make the final decision on awarding of a cooperative agreement. Applications will then be funded in final rank order until all available funds have been expended. Applicants must score 50 points or more during the first round to be considered for funding. Unused remaining funds from the first round of competition will be allocated to the second round of competition. Unless the applicant withdraws their proposal, eligible, but unfunded, proposals from the first competition will be considered in the second competition, with or without a revision by the applicant. Applications will be rated and ranked based on the evaluation criteria and weights listed below.

Evaluation Criteria and Weights

Prior to technical evaluation, each proposal will be reviewed to determine compliance with all requirements stated in this NOFA. Submissions that do not fall within the guidelines as stated in the NOFA will be eliminated from the competition and will be returned to the applicant. After this initial screening, RMA will use the following criteria to rate and rank proposals received in response to RMA's request for submission of full proposals. Failure to address any of the following criteria will disqualify the proposal.

Innovative Approach Points 30

Degree to which the proposal reflects innovative strategies for reaching under-served agricultural producers and achieving the project objectives. Recipient must demonstrate that they have developed an innovative approach that can be used by other organizations as a model. To be considered innovative, the approach must propose an easily replicated new or useful service or method or providing service to recipients that builds their capacity for economic viability. Applications that demonstrate the greatest: (1) Ease of replication (2) uniqueness of proposal; and (3) financial return to under-served agricultural producers will receive the highest score.

Institutional Commitment and Resources Points 20

The degree to which the institution or organization is committed to the project and experience, qualifications, competence and availability of personnel and resources to direct and carry out the project. Applications demonstrating the greatest commitment and quality of personnel will receive the highest score.

Overall Quality of the Proposal Points 10

The degree to which the proposal complies with the requirements in this NOFA and is of high quality. Applications that demonstrate the greatest: (1) Adherence to instructions; (2) accuracy and completeness of forms; (3) clarity and organization of ideas; (4) thoroughness and sufficiency of detail in the budget narrative; (5) specificity of allocations between targeted populations of under-served producers if the proposal addresses more than one population; and (6) completeness of the curriculum vitae for all key personnel associated with the project will receive the highest score.

Feasibility and Policy Consistency Points 20

The degree to which the proposal describes its objectives and evidences a high level of feasibility and consistency with the USDA/RMA policy and mission. This criterion relates to the adequacy and soundness of the proposed approach to the solution of the problem and evaluates the plan of operation, timetable, evaluation and dissemination plans. Applications that demonstrate the most sound and feasible projects will receive the highest score.

Number of Target Audience Served and Collaboration Points 20

The degree to which the proposals reflect partnerships and collaborative initiatives with other agencies or organizations to enhance the quality and effectiveness of the program. Applications that serve the greatest variety and number of under-served agricultural producers will receive the highest score.

Diversity Points 20

Applicant must identify the geographic areas to be served. After applications have been evaluated and awarded points under the first five criteria. Applications that promote the broadest geographic diversity will receive the highest score.

Award Process

The awarding official reserves the right to make awards to ensure the variety among successful applicants and the nature of the projects funded in order to accomplish the program objectives. The awarding official also reserves the right to negotiate with applicants recommended for funding regarding project revisions (e.g., reductions in scope of work), funding level, or period of support prior to an award, based on the amount of resources available to achieve the broad program objectives. Revisions to proposals recommended for funding may not increase the proposed scope of funding for a project or otherwise undermine or circumvent the competitive nature of the award process. The final decision to award is at the discretion of the awarding official. The awarding official shall consider the technical review panel's comments and recommendations and any other pertinent information before making a final decision. After a decision regarding funding is made, RMA and the awardees will enter into a cooperative agreement. The awarding official will notify the awardees of approval and inform it of the necessary documents. Once all award decisions are made, RMA will notify all unsuccessful applicants that their proposals did not receive an award.

OMB Required Forms—Please Submit With Your Application

| Forms
1. Application for Federal Assistance | SF-424
2. Budget Information—Non construction Programs | SF-424A
3. Assurances-Non-Construction Programs | SF 424-B
4. Certification Regarding Debarment, Suspension and Other Responsibility Matters (Primary Covered Transactions) | AD-1047
5. Certification Regarding Drug-Free Workplace Requirements (Grants) Alternative I-For Grantees Other than Individuals | AD-1049
6. Certifications Regarding Drug-Free Workplace Requirements (Grants) Alternative II—For Grantees who are individuals | AD-1050
7. Certifications Regarding Lobbying—Contracts, Grants, Loans and Cooperative Agreements
8. Notice to Applicants—Certification/Disclosure Requirements Related to Lobbying

Signed in Washington, D.C. on June 12, 2002.
Ross J. Davidson, Jr.,
Manager, Federal Crop Insurance Corporation.

[FR Doc. 02-15383 Filed 6-18-02; 8:45 am]

BILLING CODE 3410-08-P